DEPARTMENT OF HEALTH AND HUMAN SERVICES

Centers for Disease Control and Prevention

[60Day-11-0679]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Carol E. Walker, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Division of Heart Disease and Stroke Prevention Management Information System—Revision—National Center for Chronic Disease Prevention and Health Promotion (NCCDPHP), Centers for Disease Control and Prevention (CDC).

Background and Brief Description

CDC's Division of Heart Disease and Stroke Prevention (DHDSP) is currently approved to collect progress and activity information from awardees funded through two programs: The National Heart Disease and Stroke Prevention Program (NHDSPP), and the Well-Integrated Screening and Evaluation for Women Across the Nation (WISEWOMAN) program. Information is collected semi-annually through an electronic Management Information System (MIS). The current approval is scheduled to expire 5/31/2011 (OMB No. 0920-0679).

CDC plans to request OMB approval to continue information collection, with changes, for three years. A net reduction in the number of respondents will result in a net reduction in burden hours. Although there will be an increase in the number of state-based heart disease and stroke prevention (HDSP) programs funded through the NHDSPP, reporting requirements involving the MIS will be discontinued for awardees funded through the WISEWOMAN program. No changes are proposed to the information collection instrument, the burden per response, or the frequency of information collection.

In 1998, Congress provided CDC with initial funding to establish the NHDSPP, authorized under sections 301(a) and 317b(k)(2) of the Public Health Service (PHS) Act [42 U.S.C. 241(a) and 247b(k)(2)], as amended. The program currently supports population-based heart disease and stroke prevention efforts in selected States and the District of Columbia. As funding allows, CDC's strategic plan calls for expanding the program to health departments in all U.S. States and territories. CDC works with HDSP program awardees to implement and evaluate evidence-based public health prevention and control strategies that address risk factors and reduce disparities, disease, disability, and death from heart disease and stroke. Awardees are encouraged to work at the highest levels within priority environments to change policies and systems that will improve cardiovascular outcomes.

All HDSP program awardees are required to submit continuation applications and semi-annual progress reports to CDC. The DHDSP MIS provides a standardized, electronic interface for the collection of this progress information, which includes work plans, objectives, partners, data sources, and policy and environmental assessments. The MIS also produces both state-specific and aggregate reports that are used for performance monitoring, program evaluation, and technical assistance. The monitoring and evaluation plan for the HDSP program is part of an overall initiative within CDC's National Center for Chronic Disease Prevention and Health Promotion (NCCDPHP) to promote more efficient ways of using resources and achieving greater health impact. CDC plans to increase the number of HDSP awardees reporting through the MIS from 33 to 42.

CDC will discontinue approval to use the DHDSP MIS for collecting information from WISEWOMAN program awardees. The WISEWOMAN program is a demonstration program that extends cardiovascular disease-related services to a subset of women who also receive services through the National Breast and Cervical Cancer Early Detection Program (NBCCEDP). Although approval was obtained to use the DHDSP MIS for collecting progress and activity information from WISEWOMAN awardees, the information collection was not implemented due to a change in plans for monitoring these awardees. The current WISEWOMAN data collection is described in OMB No. 0920-0612 (WISEWOMAN Reporting System, exp. 3/31/2013).

CDC will continue to use the information collected through the DHDSP MIS to identify state-specific heart disease and stroke prevention priorities and objectives, and to describe the impact and reach of program interventions. Respondents will be 42 health departments in 41 States and the District of Columbia (DC). Respondents will continue to submit their progress and activity information to CDC semi-annually. The estimated burden per response is six hours. There are no costs to respondents other than their time.

Estimated Annualized Burden Hours
Respondents | Number of respondents | Number of responses per respondent | Average burden per response (in hours) | Total burden (in hours)
State-Based HDSP Programs | 42 | 2 | 6 | 504

Dated: December 2, 2010.
Carol Walker,
Acting Reports Clearance Officer, Centers for Disease Control and Prevention.

[FR Doc. 2010-30764 Filed 12-7-10; 8:45 am]

BILLING CODE 4163-18-P